EQUAL EMPLOYMENT OPPORTUNITY COMMISSION

29 CFR Part 1602

RIN 3046-AB31

Amendment of Procedural and Administrative Regulations To Include the Pregnant Workers Fairness Act; Corrections

AGENCY: Equal Employment Opportunity Commission.

ACTION: Correcting amendments.

SUMMARY: On February 14, 2024, the Equal Employment Opportunity Commission (“EEOC” or “Commission”) published an interim final rule amending its procedural and recordkeeping regulations to include references to the Pregnant Workers Fairness Act (“PWFA”). That document included a few references to the PWFA in sections where they should not have been included, and this document removes those references from the regulations.

DATES: Effective on May 28, 2024.

FOR FURTHER INFORMATION CONTACT: Kathleen Oram, Assistant Legal Counsel, at (202) 921-3240 or kathleen.oram@eeoc.gov. Requests for this notification in an alternative format should be made to the Office of Communications and Legislative Affairs at (202) 921-3191 (voice), (800) 669-6820 (TTY), or (844) 234-5122 (ASL Video Phone).

SUPPLEMENTARY INFORMATION: The Pregnant Workers Fairness Act, 42 U.S.C. 2000gg et seq., became law on December 29, 2022, and was effective on June 27, 2023. The PWFA at 42 U.S.C. 2000gg-2, adopted the enforcement mechanisms and procedures of Title VII of the Civil Rights Act of 1964 (“Title VII”) and the Government Employee Rights Act of 1991 (“GERA”), such that these requirements also apply to the PWFA. The Commission's procedural rules implementing all of these Title VII and GERA provisions can be found at 29 CFR parts 1601-1603, 1610, 1611, 1614, and 1626.

On February 14, 2024, the Commission issued an interim final rule amending these regulations to add references to the PWFA in order to implement the new law. See Interim Final Rule; Request for Comments, 89 FR 11167.¹ In the Interim Final Rule, references to the PWFA were inadvertently added to four subsections pertaining to recordkeeping in part 1602 without the Paperwork Reduction Act (“PRA”) supporting materials pursuant to 29 CFR 1320.11, or the opportunity for a public hearing pursuant to 42 U.S.C. 2000e-8(c) (as incorporated into the PWFA by 42 U.S.C. 2000gg-2). Therefore, the addition of PWFA references to these four subsections was not effective, and this correction removes them. These four subsections are the only parts of the interim final rule to be changed here, and the remainder of the rule remains in effect.

¹ The Commission corrected two typographical errors in the interim final rule on February 23, 2024, at 89 FR 13617.

List of Subjects in 29 CFR Part 1602

Administrative practice and procedure, Equal employment opportunity.

Accordingly, 29 CFR part 1602 is corrected by making the following correcting amendments:

PART 1602—RECORDKEEPING AND REPORTING REQUIREMENTS UNDER TITLE VII, THE ADA, GINA, AND THE PWFA

1. The authority citation for part 1602 continues to read as follows:

Authority: 42 U.S.C. 2000e-8, 2000e-12; 44 U.S.C. 3501 et seq.; 42 U.S.C. 12117; 42 U.S.C. 2000ff-6; 42 U.S.C. 2000gg-2.

§§ 1602.14, 1602.21, 1602.28, and 1602.31 [Amended]

2. Removing the words “title VII, the ADA, GINA, or the PWFA” and adding in their place the words “title VII, the ADA, or GINA” wherever they appear in the following places:

a. § 1602.14;

b. § 1602.21(b);

c. § 1602.28(a); and

d. § 1602.31.

For the Commission.
Charlotte A. Burrows,
Chair.

[FR Doc. 2024-11611 Filed 5-24-24; 8:45 am]

BILLING CODE 6570-01-P